ENVIRONMENTAL PROTECTION AGENCY

[EPA-HQ-OPP-2007-0191; FRL-8880-9]

Pesticide Program Dialogue Committee, Pesticide Registration Improvement Act Process Improvement Workgroup; Notice of Public Meeting

AGENCY: Environmental Protection Agency (EPA).

ACTION: Notice.

SUMMARY: The Pesticide Program Dialogue Committee (PPDC) provides a forum for a diverse group of stake holders to provide advice to the pesticide program on various pesticide regulatory, policy, and program implementation issues. In meeting its Federal Insecticide, Fungicide, and Rodenticide Act (FIFRA) and Endangered Species Act (ESA) obligations, EPA continues to seek advice from the PPDC and its workgroup, the Pesticide Registration Improvement Act (PRIA) Process Improvement Work Group. EPA plans to meet its ESA consultation obligations through the pesticide registration review program. EPA seeks input on improving the current process for stake holder input on endangered species' consultations, such as when and where stake holders should provide information regarding a pesticide during the registration review process. This meeting of the PRIA Process Improvement Work Group continues the dialogue between EPA and interested stake holders on improving opportunities for stake holder involvement on endangered species' consultations. The agenda will be available on the Web at http://www.epa.gov/oppfead1/cb/ppdc/pria/index.html.

DATES: The meeting will be held on July 27, 2011 from 9 a.m. to 12 p.m.

Requests to participate in the meeting must be received on or before July 22, 2011.

To request accommodation of a disability, please contact the person listed under FOR FURTHER INFORMATON CONTACT, preferably at least 10 days prior to the meeting, to give EPA as much time as possible to process your request.

ADDRESSES: The meeting will be held at Room 12100, One Potomac Yard (South Building), 2777 S. Crystal Drive, Arlington, VA.

FOR FURTHER INFORMATION CONTACT: Elizabeth Leovey, Immediate Office, Office of Pesticide Programs, Environmental Protection Agency, 1200 Pennsylvania Ave., NW., Washington, DC 20460-0001; telephone number: (703) 305-7328; fax number: (703) 308-4776; e-mail address: leovey.elizabeth@epa.gov.

SUPPLEMENTARY INFORMATION:

I. General Information

A. Does this action apply to me?

You may be potentially affected by this action if you are concerned about the re-evaluation of registered pesticides and the information used to assess risks to endangered species under FIFRA, and the Federal Food, Drug and Cosmetic Act (FFDCA). Other potentially affected entities may include but are not limited to:

• Crop production (NAICS code 111).

• Animal production (NAICS code 112).

• Food manufacturing (NAICS code 311).

• Pesticide manufacturing (NAICS code 32532), agricultural workers and farmers; pesticide industry trade associations; environmental, consumer and farmworker groups; pesticide users and growers; pest consultants; State, local and Tribal governments; academia; public health organizations; and the public. Since other entities may also be interested, the Agency has not attempted to describe all specific entities that may be affected by this action.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How can I get copies of this document and other related information?

EPA has established a docket for this action under docket ID number EPA-HQ-OPP-2007-0191. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

The Office of Pesticide Programs (OPP) is entrusted with the responsibility of ensuring the safety of the American food supply, protection and education of those who apply or are exposed to pesticides occupationally or through use of products, and the general protection of the environment and special ecosystems from potential risks posed by pesticides. The PPDC was established under the Federal Advisory Committee Act (FACA), Public Law 92-463, in September 1995 for a 2 year-term and has been renewed every 2 years since that time. The PPDC provides advice and recommendations to OPP on a broad range of pesticide regulatory, policy, and program implementation issues that are associated with evaluating and reducing risks from the use of pesticides. The following sectors are represented on the PPDC: Pesticide industry and trade associations; environmental/public interest and consumer groups; farm worker organizations; pesticide user, grower and commodity groups; Federal and State/local/Tribal governments; the general public; academia; and public health organizations. Copies of the PPDC charter are filed with appropriate committees of Congress and the Library of Congress and are available upon request. Copies of the minutes of past meetings of this workgroup are available on the internet at http://www.epa.gov/pesticides/ppdc/pria/index.html.

III. How can I request to participate in this meeting?

You may submit a request to participate in this meeting to the person listed under FOR FURTHER INFORMATION CONTACT. Do not submit any information in your request that is considered CBI. Requests to participate in the meeting, identified by docket ID number EPA-HQ-OPP-2007-0191, must be received on or before July 22, 2011.

List of Subjects

Environmental protection, Agriculture, Chemicals, Endangered species, Foods, Pesticide Registration, Pesticide labels, Pesticides and pests.

Dated: July 6, 2011.
Steven Bradbury,
Director, Office of Pesticide Programs.

[FR Doc. 2011-17619 Filed 7-12-11; 8:45 am]

BILLING CODE 6560-50-P